DEPARTMENT OF THE INTERIOR

National Park Service

Environmental Education Campus Development Program at Crane Flat, Yosemite National Park, Mariposa and Tuolumne Counties, CA; Notice of Intent To Prepare an Environmental Impact Statement

SUMMARY: The National Park Service (NPS) intends to prepare an Environmental Impact Statement (EIS) for the Environmental Education Campus Development Program at Crane Flat pursuant to the National Environmental Policy Act of 1969. This conservation planning and environmental impact analysis effort could potentially result in a program that would redevelop and expand outdoor environmental education facilities at Crane Flat in Yosemite National Park. Pursuant to a 1971 cooperative agreement, Yosemite Institute currently operates the campus at Crane Flat, along the Tioga Road in Yosemite National Park, California.

Background

The proposed expansion is intended to create a Environmental Education campus within Yosemite National Park that is in close proximity to Yosemite Valley and which enables Yosemite Institute to provide sustainable high-quality educational facilities and programs, overnight accommodations for students, and food service for students at a cost that is affordable for diverse and underserved audiences, ranging from school aged groups to adults. The current campus at Crane Flat is not able to sustain an environmental education program and the existing structures need rehabilitation or replacement.

Public Involvement

The NPS will conduct a conservation planning and environmental impact analysis effort for the proposed Environmental Education Campus Development Program at Crane Flat. At this time, the NPS invites the public, other Federal agencies, American Indian tribes, state and local governments, and all other interested parties to participate in the initial scoping and in the alternative development process. For initial scoping and alternative development, the most useful comments are those that identify concerns and issues, provide essential environmental information, and suggest reasonable design alternatives the park should consider in initiating the EIS process. All respondents will later have an opportunity to review the Draft EIS and submit additional comments.

During the period when the Environmental Education Campus Development Program is open for public scoping comments, two scoping meetings will be held on June 26 and June 29, 2002. Both meetings will be conducted at the East Auditorium in Yosemite Valley, Yosemite National Park, from 2 pm to 9 pm. In addition, on June 29, 2002 there will be afternoon site tours of the existing campus at Crane Flat, from 1 pm to 5 pm. Individuals, organizations, and agencies wishing to provide written comments on issues or concerns may respond by e-mail, mail or fax. All comments must be postmarked or transmitted not later than 45 days following the publication of the Notice of Intent in the Federal Register. Comments should be addressed to the Superintendent, Yosemite National Park, Ann: Environmental Education Campus Development Program at Crane Flat, P.O. Box 577, Yosemite National Park, CA 95389 (Fax to 209/379-1294, e-mail to yose_planning@nps.gov.).

If individuals submitting comments request that their name or /and address be withheld from public disclosure, it will be honored to the extent allowable by law. Such requests must be stated prominently in the beginning of the comments. There also may be circumstances wherein the NPS will withhold a respondent's identity as allowable by law.As always: NPS will make available to public inspection all submissions from organizations or businesses and from persons identifying themselves as representatives or officials of organizations and businesses; and, anonymous comments may not be considered.

Future Information

Updated information about this conservation planning and environmental impact analysis process will be distributed via mailings, regional and local news media, and the Yosemite National Park Web page (http://www.nps.gov/yose/planning). Responses to this Notice will be used to update the mailing list of people interested in receiving future information as the environmental documents are developed. Please contact the NPS by mail, e-mail, or fax at the appropriate number request placement on the mailing list. For all types of requests please be sure to include your mailing address.

Decision Process

Availability of the Draft EIS for review and written comment will be officially announced by Notice of Availability in the Federal Register, through local and regional news media, the above listed web site, and direct mailing. At this time the Draft EIS is anticipated to be available for public review and comment in spring 2003. Comments on the Draft EIS will be fully considered and incorporated into the Final EIS as appropriate. At this time it is anticipated that the Final EIS will be completed in Winter 2003. As a delegated EIS, the official responsible for the decision is the Regional Director, Pacific West Region, National Park Service; subsequently the official responsible for implementation would be the Superintendent, Yosemite National Park.

Dated: June 6, 2002.
James R. Shevock,
Acting Regional Director, Pacific West Region.

[FR Doc. 02-24056 Filed 9-20-02; 8:45 am]

BILLING CODE 4310-70-M